DEPARTMENT OF THE INTERIOR

National Park Service

Notice of Intent To Prepare a General Management Plan and Environmental Impact Statement for the South Unit of Badlands National Park, South Dakota.

AGENCY: National Park Service, Department of the Interior.

SUMMARY: Under the provisions of the National Environmental Policy Act of 1969 (42 U.S.C. 4321 et seq.), the National Park Service (NPS) in cooperation with the Pine Ridge Oglala Sioux, is preparing an Environmental Impact Statement (EIS) for a General Management Plan (GMP) for the South Unit of Badlands National Park. The GMP will prescribe the resource conditions and visitor experiences that are to be achieved and maintained in the South Unit over the next 15 to 20 years.

To facilitate sound planning and environmental assessment, the NPS intends to gather information necessary for the preparation of the EIS and obtain suggestions and information from other agencies and the public on the scope of issues to be addressed in the EIS. Comments and participation in this scoping process are invited. Participation in the planning process will be encouraged and facilitated by various means, including newsletters and open houses or meetings. The NPS will conduct public scoping meetings to explain the planning process and to solicit opinion about issues to address in the GMP/EIS.

Notification of all such meetings will be announced in the local press and in the NPS newsletters.

ADDRESSES: Additionally, if you wish to comment on any issues associated with GMP, you may submit your comments by any one of several methods. You may mail or hand-deliver comments to Superintendent, Badlands National Park, 25216 Ben Reifel Road, Interior, South Dakota 57740. You may provide comments electronically by entering them into the NPS's Planning, Environment and Public Comment Web site http://parkplanning.nps.gov. Information will be available for public review and comment from the Office of the Superintendent at the above address.

Requests to be added to the project mailing list should be sent to Ms. Pamela Livermont, Badlands National Park, 25216 Ben Reifel Road, Interior, South Dakota 57750; telephone 605-433-5281; or e-mail Pamela_Livermont@nps.gov.

Before including your address, telephone number, e-mail address, or other personal identifying information in your comments, you should be aware that your entire comment (including your personal identifying information) may be made publicly available at any time. While you can ask us in your comment to withhold your personal identifying information from public review, we cannot guarantee that we will be able to do so. We will make all submissions from organizations or businesses, from individuals identifying themselves as representatives or officials, or organizations or businesses available for public inspection in their entirety.

FOR FURTHER INFORMATION CONTACT: Superintendent Paige Baker, Badlands National Park, 25216 Ben Reifel Road, Interior, South Dakota 57750, telephone 605-433-5280.

SUPPLEMENTARY INFORMATION: Composed of two largely undeveloped and remote tracts of land totaling 140,000 acres, the South Unit lies entirely within the Pine Ridge Oglala Sioux Reservation. The South Unit is administered to provide for the care, maintenance, and preservation of prehistoric, historic, scientific, and scenic interest, and to develop facilities that will provide for public use and enjoyment.

As stated above, the GMP will prescribe the resource conditions and visitor experiences that are to be achieved and maintained in the South Unit over the next 15 to 20 years. The clarification of what must be achieved according to law and policy will be based on review of the unit's purpose, significance, special mandates, and the body of laws and policies directing park management. Based on determinations of desired conditions, the GMP will outline the kinds of resource management activities, visitor activities, and appropriate future development. A range of reasonable management alternatives will be developed through this planning process and will include, at minimum, a no-action alternative and a preferred alternative. To facilitate sound analysis of environmental impacts, the NPS is gathering information necessary for the preparation of an associated EIS.

A GMP for the North Unit was completed in 2006; the South Unit GMP will be the equivalent of Volume 2. Together, the two volumes will constitute the GMP for Badlands National Park.

Dated: January 29, 2007.
Ernest Quintana,
Regional Director, Midwest Region.

[FR Doc. 07-2020 Filed 4-23-07; 8:45 am]

BILLING CODE 4312-AD-M